OFFICE OF PERSONNEL MANAGEMENT

Proposed Collection; Comment Request for Reclearance of an Expiring Information Collection: Fingerprint Charts Standard Form 87 (SF 87) and Standard Form 87A (SF 87A), OMB No. 3206-0150

AGENCY: U.S. Office of Personnel Management.

ACTION: Notice.

SUMMARY: In accordance with the Paperwork Reduction Act of 1995 (Pub. L. 104-13, May 22, 1995), this notice announces that the U.S. Office of Personnel Management (OPM) intends to submit to the Office of Management and Budget (OMB) a request for re-clearance of an expiring information collection (Fingerprint Charts SF 87 and SF 87A; OMB No. 3206-0150). The Fingerprint Charts are used in processing fingerprint checks submitted to the Federal Bureau of Investigation (FBI) to assist in determining whether an applicant is suitable for Federal employment or should be granted a security clearance.

The SF 87 and SF 87A are used as a basis of any criminal history check. The SF 87 and SF 87A are completed by respondents for, or incumbents of, Government positions or positions for the Government under contract, or by military personnel. The charts are used as the basis for background investigations to establish that such persons are:

• Suitable for employment or retention in the position;

• Suitable for employment or retention in a public trust position;

• Suitable for employment or retention in a national security position; and

• Eligible for access to classified national security information.

Comments are particularly invited on:

• Whether this information is necessary for the proper performance of functions of the OPM and its Federal Investigative Services Division, which administers background investigations;

• Whether our estimate of the public burden of this collection of information is accurate, and based on valid assumptions and methodology;

• Ways in which we can minimize the burden of the collection of information on those who are to respond, through the use of appropriate technological collection techniques or other forms of information technology; and

• Ways in which we can enhance the quality, utility, and clarity of the information to be collected.

Federal employees are defined as those individuals who are employed as civilians or military personnel with the Federal Government. Non-Federal employees include members of the general public and all individuals employed as Federal and military contractors, or individuals otherwise not directly employed by the Federal Government.

It is estimated that 363,500 SF 87 or SF 87A inquiries are sent to individuals annually. Each form takes approximately five minutes to complete. The estimated annual burden is approximately 25,979 hours.

For copies of this proposal, contact Mary Beth Smith-Toomey on (202) 606-8358, FAX (202) 418-3251 or via E-mail to mbtoomey@opm.gov. Please include a mailing address with your request.

DATES: Comments on this proposal should be received within 60 calendar days from the date of this publication.

ADDRESSES: Send or deliver comments to—Kathy Dillaman, Associate Director,Federal Investigative Services Division,U.S. Office of Personnel Management,1900 E Street, NW., Room 5416,Washington, DC 20415.

For Information Regarding Administrative Coordination—Contact: Mary-Kay Brewer, Program Analyst, Operational Policy Group, Federal Investigative Services Division,

U.S. Office of Personnel Management, (202) 606-1835.

U.S. Office of Personnel Management.
Howard Weizmann,
Deputy Director.

[FR Doc. E8-14110 Filed 6-20-08; 8:45 am]

BILLING CODE 6325-53-P